DEPARTMENT OF COMMERCE

International Trade Administration

[A-821-808]

Invitation for Comment on the Agreement Suspending the Antidumping Duty Investigation of Certain Cut-to-Length Carbon Steel Plate From the Russian Federation

AGENCY: Enforcement and Compliance, International Trade Administration, Department of Commerce.

SUMMARY: On March 30, 2023, Nucor Corporation, Cleveland-Cliffs Inc., and SSAB Enterprises LLC (collectively, domestic interested parties), filed with the U.S. Department of Commerce (Commerce) a request to terminate the 2003 Agreement Suspending the Antidumping Duty Investigation of Certain Cut-to-Length Carbon Steel Plate from the Russian Federation (Agreement). For the reasons stated in this notice, Commerce is requesting comments on whether the Agreement is no longer meeting its statutory requirements.

DATES: Applicable April 24, 2023.

FOR FURTHER INFORMATION CONTACT: Sally C. Gannon or David Cordell, Bilateral Agreements Unit, Enforcement and Compliance, International Trade Administration, U.S. Department of Commerce, 1401 Constitution Avenue NW, Washington, DC 20230; telephone: (202) 482-0162 or (202) 482-0408, respectively.

SUPPLEMENTARY INFORMATION:

Background

On January 23, 2003, Commerce and producers/exporters accounting for substantially all imports of certain cut-to-length carbon steel plate (CTL plate) from the Russian Federation entered into the Agreement under section 734(b) of the Tariff Act of 1930, as amended (the Act).¹ In entering into the Agreement, Commerce determined, under section 734(b) of the Act, that the Agreement would eliminate completely sales at less than fair value of the imported subject merchandise and, under section 734(d) of the Act, that the Agreement was in the public interest and could be monitored effectively.

¹ See Suspension of Antidumping Duty Investigation of Certain Cut-to-Length Carbon Steel Plate from the Russian Federation, 68 FR 3859 (January 27, 2003).

On March 30, 2023, the domestic interested parties filed a request that Commerce terminate the Agreement and impose an antidumping duty order on imports of CTL plate from the Russia Federation.² The domestic interested parties argue that the Agreement is no longer meeting the requirements of sections 734(b) and section 734(d) of the Act.

² See Domestic Interested Parties' Letter, “Request to Terminate Suspension Agreement,” dated March 30, 2023.

Scope of Agreement

The products covered by the Agreement are CTL plate from the Russian Federation. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, our written description of the scope of the Agreement is dispositive. For a full description of the scope of this Agreement, see Appendix B of the Agreement.

Invitation for Comment

As discussed above, Commerce has received a request to terminate the Agreement from the domestic interested parties and is currently evaluating the request. The Agreement, at Section F, provides that “{i}f the Department determines that the Agreement is being or has been violated or no longer meets the requirements of section 734(b) or (d) of the Act, Commerce shall take action it determines appropriate under section 734(i) of the Act and the regulations.”

Section 734(i) of the Act provides that where, as here, the investigation was completed,³ Commerce shall suspend liquidation and issue an antidumping duty order under section 736(a) of the Act if Commerce determines that there has been a violation of the Agreement, or if the Agreement no longer meets the statutory requirements. Pursuant to 19 CFR 351.209(c)(1), if Commerce has reason to believe that a suspension agreement no longer meets the requirements of section 734(d) of the Act, it will publish a notice inviting comment on the suspension agreement. Based on the domestic interested parties' request to terminate, we find that the requirements of 19 CFR 351.209(c)(1) have been met, and as such, are issuing this notice to seek comments to determine if suspension of the investigation no longer meets the statutory requirements.

³ See Notice of Final Determination of Sales at Less Than Fair Value: Certain Cut-to-Length Carbon Steel Plate from the Russian Federation, 62 FR 61787 (November 19, 1997).

After consideration of comments received, Commerce will determine whether the Agreement no longer meets the statutory requirements and, if appropriate, take necessary action in accordance with section 734(i) of the Act and 19 CFR 351.209(c).

Public Comment

Interested parties may submit comments via Enforcement and Compliance's Antidumping and Countervailing Duty Centralized Electronic Service System (ACCESS) no later than 30 days after the date of publication of this notice. ACCESS is available to registered users at https://access.trade.gov. Rebuttal comments, limited to issues raised in the affirmative comments, may be submitted via ACCESS no later than seven days after the deadline for comments. Note that Commerce has temporarily modified certain of its requirements for serving documents containing business proprietary information, until further notice.⁴

⁴ See Temporary Rule Modifying AD/CVD Service Requirements Due to COVID-19; Extension of Effective Period, 85 FR 41363 (July 10, 2020).

When submitting comments via ACCESS, interested parties must upload their submissions to the segment in ACCESS entitled “Suspension Agreement” and Segment Specific Information identified as “2003.”

Notification to Interested Parties

Commerce is issuing this notice in accordance with 734(i) of the Act and 19 CFR 351.209(c).

Dated: April 19, 2023.
Abdelali Elouaradia,
Deputy Assistant Secretary for Enforcement and Compliance.

[FR Doc. 2023-08604 Filed 4-21-23; 8:45 am]

BILLING CODE 3510-DS-P